COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities and delete services previously provided by such agencies.

Comments Must Be Received on or Before: 12/9/2013.

ADDRESSES: Committee for Purchase From People Who Are Blind or Severely Disabled, 1401 S. Clark Street, Suite 10800, Arlington, Virginia 22202-4149.

For Further Information or to Submit Comments Contact: Barry S. Lineback, Telephone: (703) 603-7740, Fax: (703) 603-0655, or email CMTEFedReg@AbilityOne.gov.

SUPPLEMENTARY INFORMATION: This notice is published pursuant to 41 USC 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN: 8455-00-NIB-0036—ID Card Holder, Dual Cards, Rigid Plastic, Black, W/Neck Lanyard.

NSN: 8455-00-NIB-0037—ID Card Holder, Dual Cards, Rigid Plastic, Black.

NSN: 8455-00-NIB-0039—Badge Holder, ID, Plastic, Clear, Waterproof W/Neck Lanyard.

NPA: West Texas Lighthouse for the Blind, San Angelo, TX.

Contracting Activity: General Services Administration, Fort Worth, TX.

Coverage: A-List for the Total Government Requirement as aggregated by the General Services Administration.

NSN: 7520-00-NIB-1932—Pen, Roller Ball, Liquid Ink, Retractable, Needle Point, Airplane Safe, 0.5 mm, Refillable, Black.

NSN: 7520-00-NIB-1933—Pen, Roller Ball, Liquid Ink, Retractable, Needle Point, Airplane Safe, 0.5 mm, Refillable, Blue.

NSN: 7520-00-NIB-1934—Pen, Roller Ball, Liquid Ink, Retractable, Needle Point, Airplane Safe, 0.7 mm, Refillable, Black.

NSN: 7520-00-NIB-1935—Pen, Roller Ball, Liquid Ink, Retractable, Needle Point, Airplane Safe, 0.7 mm, Refillable, Blue.

Coverage: A-List for the Total Government Requirement as aggregated by the General Services Administration.

NSN: 7510-00-NIB-2241—Refill, Roller Ball, Liquid Ink, Airplane Safe, 0.5 mm, Black.

NSN: 7510-00-NIB-9896—Refill, Roller Ball, Liquid Ink, Airplane Safe, 0.5 mm, Blue.

NSN: 7510-00-NIB-9897—Refill, Roller Ball, Liquid Ink, Airplane Safe, 0.7 mm, Black.

NSN: 7510-00-NIB-9898—Refill, Roller Ball, Liquid Airplane Safe Ink, 0.7 mm, Blue.

Coverage: B-List for the Broad Government Requirement as aggregated by the General Services Administration.

NPA: San Antonio Lighthouse for the Blind, San Antonio, TX.

Contracting Activity: General Services Administration, New York, NY.

Deletions

The following services are proposed for deletion from the Procurement List:

Services

Service Type/Location: Switchboard Operation Service, Department of Justice, FBI Academy, Quantico, VA.

NPA: Rappahannock Goodwill Industries, Inc., Fredericksburg, VA.

Contracting Activity: Dept of Justice, Federal Bureau of Investigation, Washington, DC.

Service Type/Location: Vehicle Detailing Service; Fleet Management Center, Medford, OR.

NPA: Living Opportunities, Inc., Medford, OR.

Contracting Activity: General Services Administration, FPDS Agency Coordinator, Washington, DC.

Barry S. Lineback,
Director, Business Operations.

[FR Doc. 2013-26806 Filed 11-7-13; 8:45 am]

BILLING CODE 6353-01-P